DEPARTMENT OF COMMERCE

National Oceanic and Atmospheric Administration

RIN 0648-XF781

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (MAFMC's) Summer Flounder, Scup, and Black Sea Bass Monitoring Committee will hold a public meeting.

DATES: The meeting will be held on Monday, November 13, 2017, from 1 p.m. to 5 p.m. and on Tuesday, November 14, 2017, from 8:30 a.m. to 3 p.m. See SUPPLEMENTARY INFORMATION for agenda details.

ADDRESSES: The meeting will be held at the Hilton Garden Inn BWI Airport, 1516 Aero Drive, Linthicum, MD 21090; telephone: (410) 691-0500.

Council address: Mid-Atlantic Fishery Management Council, 800 N. State Street, Suite 201, Dover, DE 19901; telephone: (302) 674-2331; Web site: www.mafmc.org.

FOR FURTHER INFORMATION CONTACT: Christopher M. Moore, Ph.D., Executive Director, Mid-Atlantic Fishery Management Council, telephone: (302) 526-5255.

SUPPLEMENTARY INFORMATION: The Mid-Atlantic Fishery Management Council's Summer Flounder, Scup, and Black Sea Bass Monitoring Committee will meet November 13-14 to develop recommendations for recreational management measures for the 2018 summer flounder, scup, and black sea bass fisheries. The Committee may also discuss ongoing options for improvements to the recreational management measures process and ongoing analyses related to recreational fishery issues for these three species.

A detailed agenda and background documents will be made available on the Council's Web site (www.mafmc.org) prior to the meeting.

Special Accommodations

These meetings are physically accessible to people with disabilities. Requests for sign language interpretation or other auxiliary aid should be directed to M. Jan Saunders, (302) 526-5251, at least 5 days prior to the meeting date.

Dated: October 19, 2017.
Tracey L. Thompson,
Acting Deputy Director, Office of Sustainable Fisheries, National Marine Fisheries Service.

[FR Doc. 2017-23033 Filed 10-23-17; 8:45 am]

BILLING CODE 3510-22-P